DEPARTMENT OF TRANSPORTATION

Federal Aviation Administration

Advisory Circular (AC) 23-17B, Systems and Equipment Guide for Certification of Part 23 Airplanes and Airships

AGENCY: Federal Aviation Administration, DOT.

ACTION: Notice of issuance of advisory circular.

SUMMARY: This advisory circular (AC) sets forth an acceptable means, but not the only means, of showing compliance with Title 14 Code of Federal Regulations (14 CFR), part 23, for the certification of systems and equipment in normal, utility, acrobatic, and commuter category airplanes and airships. The policy in this AC is considered applicable for airship projects; however, the certifying office should only use specific applicability and requirements if they are determined to be reasonable, applicable and relevant to the airship project. This AC applies to Subpart D from § 23.671 and Subpart F. This AC both consolidates existing policy documents, and certain ACs that cover specific paragraphs of the regulations, into a single document and adds new guidance. This revision has added preamble material, in italics, under the applicable rule and amendment level. Material in this AC is neither mandatory nor regulatory in nature and does not constitute a regulation.

The draft AC was issued for Public Comment on September 29, 2004 (69 FR 58213). No comments were received.

DATES: Advisory Circular (AC) 23-22 was issued by the Manager, Small Airplane Directorate on April 12, 2005.

How to Obtain Copies: A paper copy of AC 23-17B may be obtained by writing to the U.S. Department of Transportation, Subsequent Distribution Office, DOT Warehouse, SVC-121.23, Ardmore East Business Center, 3341Q 75th Avenue, Landover, MD 20785, telephone 301-322-5377, or by faxing your request to the warehouse at 301-386-5394. The AC will also be available on the Internet at http://www.airweb.faa.gov/AC.

Issued in Kansas City, Missouri on April 12, 2005.
Nancy C. Lane,
Acting Assistant Manager, Aircraft Certification Service.

[FR Doc. 05-9042 Filed 5-5-05; 8:45 am]

BILLING CODE 4910-13-P